NATIONAL SCIENCE FOUNDATION

Notice of Permit Applications Received Under the Antarctic Conservation Act of 1978

AGENCY: National Science Foundation.

ACTION: Notice of Permit Applications Received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by September 21, 2020. This application may be inspected by interested parties at the Permit Office, address below.

ADDRESSES: Comments should be addressed to Permit Office, Office of Polar Programs, National Science Foundation, 2415 Eisenhower Avenue, Alexandria, Virginia 22314.

FOR FURTHER INFORMATION CONTACT: Nature McGinn, ACA Permit Officer, at the above address, 703-292-8030, or ACApermits@nsf.gov.

SUPPLEMENTARY INFORMATION: The National Science Foundation, as directed by the Antarctic Conservation Act of 1978 (Pub. L. 95-541, 45 CFR 670), as amended by the Antarctic Science, Tourism and Conservation Act of 1996, has developed regulations for the establishment of a permit system for various activities in Antarctica and designation of certain animals and certain geographic areas a requiring special protection. The regulations establish such a permit system to designate Antarctic Specially Protected Areas.

Application Details

Permit Application: 2021-004

1. Applicant: Grant Ballard, Point Blue Conservation Science, 3820 Cypress Dr. #11, Petaluma, CA 94954.

Activity for Which Permit Is Requested: Take, Harmful Interference, Enter Antarctic Specially Protected Areas (ASPAs), Import into USA. The applicant proposed to enter ASPA 121, Cape Royds, ASPA 124, Cape Crozier, and ASPA 105, Beaufort Island, to conduct research on the role of environmental factors on foraging, diet, growth, and survival of Adelie penguins. Research activities would include installing weighbridges, resighting banded birds, and following birds through incubation and chick-rearing until late January. The applicant and agents would attach logging and tracking devices on breeding adults and collect fecal samples from adults and chicks during the brooding and guarding stage, then would attach long-term GPS-Argos tags and geolocating dive recorders on adult penguins. The applicant and agents would measure and band 200 chicks at Cape Royds and 500 chicks at Cape Crozier each season, and would deploy GPS-Argos tags on molted juveniles. The applicant and agents would also conduct similar research at Cape Bird, but the work would be conducted outside the ASPA boundary. To survey the large colonies at Cape Royds and Cape Crozier in a timely manner, the applicant and agents would employ multiple, self- and collectively-aware remotely piloted aircraft (RPAS) simultaneously. The RPAS will be piloted by trained, experienced, and certified operators and the operations will also involve additional visual observation of penguin behavior. For the surveys, the RPAS launch site would be at least 20 meters away from nesting birds and the RPAS would be operated at 50 meters above ground level and nest birds to help ensure minimal disturbance. Surveys at Cape Crozier have the potential to disturb south polar skuas nesting near the penguin colony. Images obtained from the surveys would be used to estimate the number of nesting adults and chicks, as well as nesting density. The applicant and agents would access the general areas by helicopter and would enter the ASPAs on foot. The applicant would maintain a webcam (PenguinCam) positioned slightly inside the Cape Royds ASPA boundary.

Location: ASPA 121, Cape Royds, Ross Island; ASPA 124, Cape Crozier, Ross Island; ASPA 105, Beaufort Island; Cape Bird (outside ASPA boundary).

Dates of Permitted Activities: October 15, 2020-February 15, 2025.

Erika N. Davis,
Program Specialist, Office of Polar Programs.

[FR Doc. 2020-18227 Filed 8-19-20; 8:45 am]

BILLING CODE 7555-01-P